DEPARTMENT OF THE TREASURY

Agency Information Collection Activities; Proposed Collection; Comment Request; Emergency Rental Assistance Program (ERA2)

AGENCY: Departmental Offices, U.S. Department of the Treasury.

ACTION: Notice of Information Collection; request for comment.

SUMMARY: The Department of the Treasury, as part of its continuing effort to reduce paperwork and respondent burden, invites the general public and other federal agencies to comment on the proposed information collections listed below, in accordance with the Paperwork Reduction Act of 1995.

DATES: Written comments must be received on or before March 30, 2026.

ADDRESSES: Send comments regarding the burden estimate, or any other aspect of the information collection, including suggestions for reducing the burden, to Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Title: Emergency Rental Assistance Program (ERA2) Final Quarterly Reports.

OMB Control Number: 1505-0270.

Type of Review: Extension without change of a currently approved collection.

Description: The Emergency Rental Assistance (ERA2) program authorized by the American Rescue Plan Act of 2021 (the “Act”), Public Law 117-2, Title III, Subtitle B, Section 3201 of the Act provides $21.55 billion for the U.S. Department of the Treasury (Treasury) to make payments to Stated (defined to include the District of Columbia), U.S. Territories (Puerto Rico, U.S. Virgin Islands, Guam, Northern Mariana Islands, and American Samoa), and certain local governments with more than 200,000 residents (collectively the “eligible grantees”) to provide financial assistance and housing stability services to eligible households, and cover the costs for other affordable rental housing and eviction prevention activities for eligible households. ERA2 grantees are required to submit reports on their utilization of ERA2 award funds electronically via Treasury's Portal. These information collections permit Treasury to effectively monitor the ERA2 grantees' compliance with the requirements of the ERA2 award terms. The ERA2 Final Quarterly Reports are due to be submitted by all grantees no later than January 28, 2026. After the official submissions of the ERA2 Final Quarterly Reports, Treasury and others will use the information collection forms for on-going compliance monitoring purposes, such as case-by-case reviews and follow-up with individual grantees, and for standard recordkeeping.

Form: None.

Affected Public: State, Local, and Territorial Government recipients of ERA2 awards including those that either fail to submit timely ERA2 Final Quarterly Reports or who are requested to resubmit reports for corrections or additional information.

Estimated Number of Respondents: 70.

Frequency of Response: One Time.

Estimated Total Number of Annual Responses: 70.

Estimated Time per Response: Five hours per respondent (on average).

Estimated Total Annual Burden Hours: 350 hours.

Request for Comments: Comments submitted in response to this notice will be summarized and included in the request for Office of Management and Budget approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of technology; and (e) estimates of capital or start-up costs and costs of operation, maintenance, and purchase of services required to provide information.

Authority: 44 U.S.C. 3501 et seq.

Kendra Young-Freeman,
Director of Housing Programs.

[FR Doc. 2026-01731 Filed 1-28-26; 8:45 am]

BILLING CODE 4810-AK-P